NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by August 8, 2011. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTAL INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Permit Application No. 2012-004, James G. Bockheim, University of Wisconsin-Madison, 1525 Observatory Drive, Madison, WI 53706-1299.

Activity for Which Permit Is Requested: Enter an Antarctic Specially Protected Area. The applicant plans to enter ASPA 134—Cierva Point and Offshore islands, Danco Coast, Antarctica, to install boreholes and a soil climate station as part of an international (Argentina, Brazil, Bulgaria, Portugal, Russia, Spain, Switzerland, and the USA) project examining the effects of climate warming on seasonal thawing, permafrost occurrence and properties, and soil properties along a latitudinal gradient on the western Antarctic Peninsula. A 15 meter borehole will be installed with a string of digital temperature sensors placed at various depths along the string. In addition, 10 shallow boreholes will be installed at various elevations and on different geomorphic surfaces for monitoring active-layer (seasonal thaw layer) dynamics. Once the project is complete, the shallow boreholes will be backfilled with the soil removed upon drilling, and the deep borehole will be filled with concrete.

Location: ASPA 134—Cierva Point and Offshore islands, Danco Coast.

Dates: March 1, 2012 to April 1, 2014.

Nadene G. Kennedy,
Permit Officer, Office of Polar Programs.

[FR Doc. 2011-16944 Filed 7-6-11; 8:45 am]

BILLING CODE 7555-01-P